DEPARTMENT OF DEFENSE

Office of the Secretary

[DOD-2008-OS-0011]

Privacy Act of 1974; System of Records

AGENCY: Office of the Inspector General, DoD.

ACTION: Notice to alter a system of records.

SUMMARY: The Office of the Inspector General (OIG) is altering a system of records to its existing inventory of record systems subject to the Privacy Act of 1974 (5 U.S.C. 552a), as amended.

DATES: The changes will be effective on March 24, 2008 unless comments are received that would result in a contrary determination.

ADDRESSES: Send comments to Chief, FOIA/PA Office, Inspector General, Department of Defense, 400 Army Navy Drive, Room 201, Arlington, VA 22202-4703.

FOR FURTHER INFORMATION CONTACT: Mr. Darryl R. Aaron at (703) 604-9785.

SUPPLEMENTARY INFORMATION: The Office of the Inspector General notices for systems of records subject to the Privacy Act of 1974 (5 U.S.C. 552a), as amended, have been published in the Federal Register and are available from the address above.

The proposed systems reports, as required by 5 U.S.C. 552a(r) of the Privacy Act of 1974, as amended, were submitted February 13, 2008, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: February 14, 2008
L.M. Bynum,
Alternate OSD Federal Register Liaison Officer, Department of Defense.

CIG 20

Defense Audit Management Information System (DAMIS) (November 29, 2002, 67 FR 71151)

Changes:

* * * * *

System name:

Delete and replace with “Defense Automated Management Information System (DAMIS).”

System location:

Delete and replace with “Perot Systems Government Services, 8270 Willow Oaks Corporate Drive, Willow Oaks 3, Fairfax, VA 22031-4615.”

Categories of individuals covered by the system:

Delete and replace with “All active personnel employed by the Office of the Inspector General, Department of Defense, the Naval Audit Service, the Army Audit Agency, and the Air Force Audit Agency.”

* * * * *

Purpose(s):

Delete and replace with “Information is used to maximize staff resources and to provide project cost summary data; to track staff hours allocated towards project preparation and active projects which will allow for more effective scheduling of unassigned personnel and to categorize indirect time expended for end-of-year reporting; to plan workloads, to assist in providing time and attendance to the centralized payroll system; and to schedule and track training.”

* * * * *

Safeguards:

Delete and replace with “Access to DAMIS is protected through the use of assigned user/IDs and passwords for entry to the different subsystem applications. Once the user's credentials are acknowledged by the system, individual(s) are only allowed to perform predefined transactions/processes on files according to their access levels and functionality.”

* * * * *

Retention and disposal:

Delete and replace with “Master file contains data relating to audit projects, final reports, training, and time and attendance. Destroy/delete 20 years after the case is closed. System Outputs include specific use reports (not required periodic reports) or results of queries on selected data. Keep in current file until no longer needed for conducting business, but not longer than 2 years, then destroy.”

System manager(s) and address:

Delete and replace with “Technical Director, Corporate Analysis and Planning Division, Office of the Deputy Inspector General for Auditing, Office of the Inspector General, DoD, 400 Army Navy Drive, Arlington, VA 22202-4703.”

Notification procedure:

Delete and replace with “Individuals seeking access to records about themselves contained in this system of records should address written requests to the Chief, Freedom of Information Act Requester Service Center/Privacy Act Office, 400 Army Navy Drive, Arlington, VA 22202-4703.

Written request should contain the individual's full name, signature and work organization.”

Record access procedures:

Delete and replace with “Individuals seeking access to records about themselves contained in this system of records should address written requests to the Chief, Freedom of Information Act Requester Service Center/Privacy Act Office, 400 Army Navy Drive, Arlington, VA 22202-4704.

Written request should contain the individual's full name, signature and work organization.”

* * * * *

CIG-20

System name:

Defense Automated Management Information System (DAMIS)

System location:

Perot Systems Government Services, 8270 Willow Oaks Corporate Drive, Willow Oaks 3, Fairfax, VA 22031-4615.

Categories of individuals covered by the system:

All active personnel employed by the Office of the Inspector General, Department of Defense, the Naval Audit Service, the Army Audit Agency, and the Air Force Audit Agency.

Categories of records in the system:

Individual's name; current employment status; training courses scheduled and received, pay grade, handicap code, duty address, security clearance, audit project position, education number of training days, entered on duty date, date of release, and employee status code.

Authority for maintenance of the system:

5 U.S.C. 301, Departmental Regulations; DoD Directive 5106.1, Inspector General of the Department of Defense; and DoD Directive 8320.1, DoD Data Administration.

Purpose(s):

Information is used to maximize staff resources and to provide project cost summary data; to track staff hours allocated towards project preparation and active projects which will allow for more effective scheduling of unassigned personnel and to categorize indirect time expended for end-of-year reporting; to plan workloads, to assist in providing time and attendance to the centralized payroll system; and to schedule and track training.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the OIG compilation of systems of records notices also apply to this system.

Policies and practices for storing, retrieving, accessing, retaining, and disposing of records in the system:

Storage:

Automated records are maintained on electronic storage media/magnetic tape.

Retrievability:

Individual's name.

Safeguards:

Access to Defense Automated Management Information System is protected through the use of assigned user/IDs and passwords for entry to the different subsystem applications. Once entry is acknowledged by the system, individual(s) are only allowed to perform predefined transactions/processes on files according to their access levels and functionality.

Retention and disposal:

Master file contains data relating to audit projects, final reports, training, and time and attendance. Destroy/delete 20 years after the case is closed.

System Outputs include specific use reports (not required periodic reports) or results of queries on selected data. Keep in current file until no longer needed for conducting business, but not longer than 2 years, then destroy.

System manager(s) and address:

Technical Director, Corporate Analysis and Planning Division, Office of the Deputy Inspector General for Auditing, Office of the Inspector General, DoD, 400 Army Navy Drive, Arlington, VA 22202-4703.

Notification procedure:

Individuals seeking access to records about themselves contained in this system of records should address written requests to the Chief, Freedom of Information Act Requester Service Center/Privacy Act Office, 400 Army Navy Drive, Arlington, VA 22202-4703.

Written request should contain the individual's full name, signature, and work organization.

Record access procedures:

Individuals seeking access to records about themselves contained in this system of records should address written requests to the Chief, Freedom of Information Act Requester Service Center/Privacy Act Office, 400 Army Navy Drive, Arlington, VA 22202-4703.

Written request should contain the individual's full name, signature, and work organization.

Contesting record procedures:

The OIG's rules for accessing records and for contesting contents and appealing initial agency determinations are published in 32 CFR part 312 or may be obtained from the system manager.

Record source categories:

From the subject individual and activity supervisors.

Exemptions claimed for the system:

None.

[FR Doc. E8-3210 Filed 2-20-08; 8:45 am]

BILLING CODE 5001-06-P